DEPARTMENT OF ENERGY

Federal Energy Regulatory Commission

[Project No. 13116-000; Project No. 13115-000]

Mississippi River 14 Hydro, LLC, BPUS Generation Development, LLC; Notice of Competing Preliminary Permit Applications Accepted for Filing and Soliciting Comment, Motions To Intervene, and Competing Applications

August 21, 2008.

On February 15, 2008, Mississippi River 14 Hydro, LLC and BPUS Generation Development, LLC each filed a competing application, pursuant to section 4(f) of the Federal Power Act, proposing to study the feasibility of the Mississippi River Lock and Dam No. 14 Hydroelectric Project, to be located on the Mississippi River in Rock Island County and Scott County, Illinois. The Mississippi Lock and Dam 14 is owned by the U.S. Army Corps of Engineers.

Mississippi River 14 Hydro, LLC's proposed project would utilize the existing U.S. Army Corps of Engineers' Mississippi Lock and Dam No. 14 and would consist of: (1) A proposed powerhouse containing three generating units with an installed capacity of 26-megawatts; (2) a switchyard; (3) a proposed 1-mile, 69-kV transmission line; and (4) appurtenant facilities. The proposed Mississippi River Lock and Dam 14 Hydroelectric Project would have an estimated annual generation of approximately 139-gigawatt-hours, which would be sold to a local utility.

BPUS Generation Development, LLC's proposed project would utilize the U.S. Army Corps of Engineers' Mississippi River Lock and Dam No. 14 would consist of:(1) A proposed powerhouse containing five generating units with a combined installed capacity of 26-megawatts; (2) a new 13,100-foot-long, 230-kilovolt transmission line; and (3) appurtenant facilities. The proposed Mississippi River Lock and Dam No. 14 Hydroelectric Project would have an average annual generation of 145-gigawatt-hours, which would be sold to a local utility.

Applicants Contacts: For Mississippi River 14 Hydro, LLC, Mr. Brent L. Smith, COO, Symbiotics, LLC, P. O. Box 535, Rigby, ID 83442, phone: (208) 745-0834. For BPUS Generation Development, LLC, Mr. Jeffrey M. Auser, P.E., BPUS Generation Development, LLC, 225 Greenfield Parkway, Suite 201, Liverpool, NY 13088, (315) 413-2821.

FERC Contact: Patricia W. Gillis, (202) 502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13116 or P-13115) in the docket number field to access the document. For assistance, call toll-free 1-866-208-3372.

Kimberly D. Bose,
Secretary.

[FR Doc. E8-19934 Filed 8-27-08; 8:45 am]

BILLING CODE 6717-01-P